DEPARTMENT OF ENERGY

Federal Energy Regulatory Commission

[Docket Nos. AD05-11-000 and ER02-1656-000]

Energy Infrastructure and Investment in California; California Independent System Operator Corporation; Supplemental Notice of Conference

May 25, 2005.

As previously announced, the Federal Energy Regulatory Commission (FERC or Commission) in conjunction with the state agencies will hold a conference on energy infrastructure and investment on Thursday, June 2, 2005 in San Francisco, California. Attached is a more detailed agenda and list of panelists.

The one-day meeting will begin at 9 a.m. (PST), and conclude shortly after 3 p.m. All interested parties are invited to attend.

Although registration is not a strict requirement, in-person attendees are asked to register for the conference on-line by close of business on May 31, 2005 at http://www.ferc.gov/whats-new/registration/infra-06-02-form.asp. There is no registration fee. For additional information, please contact Sarah McKinley in the Office of External Affairs at sarah.mckinley@ferc.gov.

Transcripts of the conference will be immediately available from Ace Reporting Company (202-347-3700 or 1-800-266-6646) for a fee. They will be available for the public on the Commission's eLibrary system and on the calendar page posting for this event seven calendar days after FERC receives the transcript. Additionally, Capitol Connection offers the opportunity for remote listening of the conference via Real Audio or a Phone Bridge Connection for a fee. Persons interested in making arrangements should contact David Reininger or Julia Morelli at Capitol Connection (703-933-3100) as soon as possible or visit the Capitol Connection Web site at http://www.capitolconnection.org and click on “FERC.”

Linda Mitry,
Deputy Secretary.

Conference Agenda—California Public Utilities Commission, 505 Van Ness Ave, San Francisco, California

June 2, 2005

9-9:45 a.m. Opening Remarks and Introductions:

Chairman Pat Wood, Federal Energy Regulatory Commission (FERC)

Commissioner Nora Mead Brownell, FERC

Commissioner Joseph T. Kelliher, FERC

President Michael R. Peevey, California Public Utilities Commission (CPUC)

Commissioner Dian Grueneich, CPUC

Commissioner John Bohn, CPUC

Commissioner Susan P. Kennedy, CPUC

Chairman Joe Desmond, California Energy Commission (CEC)

Commissioner John L. Geesman, CEC

President and Chief Executive Officer Yakout Mansour, California Independent System Operator Corporation (CAISO)

9:45—10 a.m. Presentation: Current Infrastructure and Supply and Demand, Jeff Wright, Office of Energy Projects, FERC

10—10:45 a.m. Presentation: Grid Operations and Transmission Expansion Planning, Jim Detmers, Vice President of Grid Operations, CAISO

• CAISO outlook for 2005 and 2006

• CAISO grid operations

✓ Seasonal import/export considerations and coordination

✓ Magnitude and variability of system and localized constraints

✓ Generation deliverability

10:45-11 a.m. Break

11-12:30 p.m. Roundtable: Supply and Demand Side: Investment and Infrastructure

This panel will address the regulatory and market structures needed for an end-state market that provides signals for investment.

After remarks by the opening panelist, other panelists will each have an opportunity to give a prepared 3 minute presentation. With the completion of all presentations, there will be an opportunity for question and answer and panel discussion.

Panelists should address:

• Projected California Resource Additions for 2006-2010—Who is building?

✓ Technology and Communications infrastructure to incent Demand Response

✓ Renewable Energy Resources

✓ Conventional Generation

• Capacity markets

✓ How do capacity markets contribute to a stable investment environment? Are capacity markets facilitating investment in other regions of the United States?

• Current Investment Climate

✓ What is the perception of California from Wall Street as it relates to investing in generation resources?

• Credit and Contracting

✓ What are appropriate/standard credit requirements on contracts for physical generating facilities?

✓ How should requirements vary depending on the seller's financial condition?

✓ Should credit requirements for energy-only contracts differ from credit requirements for contracts for physical generating facilities. If so, how?

✓ Are there standards developing in the market of which parties should be aware?

Panelists:

Steven Stoft, Consultant to the CPUC

Mike Florio, Senior Staff Attorney, The Utility Reform Network

Gary Ackerman, Executive Director, Western Power Trading Forum

Brian Chin, Energy Merchant Equity Analyst, Smith Barney Citigroup

Steve Schleimer, Vice President of Regulatory Affairs for Western Region, Calpine

Pedro Pizarro, Vice President of Power Procurement, SoCal Edison

Brian Silverstein, VP, Operations & Planning & Chief Engineer, Bonneville Power Administration

Curtis Kebler, Vice President, U.S. Power Trading, Goldman Sachs & Co.

12:30-1:30 p.m. Lunch

1:30-3 p.m. Roundtable: Transmission

After brief presentations by the opening 3 panelists describing their respective agencies' roles in the transmission expansion and planning process, other panelists will each have an opportunity to give a prepared 3 minute presentation. With the completion of all presentations, there will be an opportunity for question and answer session and panel discussion.

Panelists will address:

• Who is building and why?

• What are the biggest hurdles to expansion and what are the ways to overcome them?

• Ownership: individual or joint and implications for cost recovery

• Who is funding: private/public partnerships?

• Does the availability of long term rights impact investment?

• The role of the CAISO and the impact of the CAISO's TEAM

• Cost recovery

Panelists:

Armando J. Perez, Director of Grid Planning, CAISO

Tom Flynn, Deputy Director, Office of Governmental Affairs, CPUC

Don Kondoleon, Manager, Transmission Evaluation Program, CEC

David Parquet, Vice President, Babcock & Brown Power Operating Partners, LLC

Steve Metague, Director of Electric Transmission Rates, PG&E

Christopher J. Leslie, Executive Director, Macquarie Securities (USA) Inc.

Jerry Smith, Electric Utility Engineer, Arizona Corporation Commission

Jim Avery, Senior Vice President of Electric Transmission, SDG&E

Nancy Day, Board of Directors, Los Angeles Economic Development Corporation

3 p.m. Closing

[FR Doc. E5-2776 Filed 6-1-05; 8:45 am]

BILLING CODE 6717-01-P